DEPARTMENT OF COMMERCE

Census Bureau

Agency Information Collection Activities; Submission to the Office of Management and Budget (OMB) for Review and Approval; Comment Request; Business Trends and Outlook Survey

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on November 9, 2021 during a 60-day comment period. This notice allows for an additional 30 days for public comments.

Agency: U.S. Census Bureau.

Title: Business Trends and Outlook Survey.

OMB Control Number: 0607-1022.

Form Number(s): This online survey has no form number.

Type of Request: Regular submission, Request for a Revision of a Currently Approved Collection.

Number of Respondents: 717,600.

Average Hours per Response: 9 minutes.

Burden Hours: 131,600.

Needs and Uses: The mission of the U.S. Census Bureau (Census Bureau) is to serve as the leading source of quality data about the nation's people and economy; in order to fulfill this mission, it is necessary to innovate to produce more detailed, more frequent, and more timely data products. The Coronavirus pandemic was an impetus for the creation of new data products by the Census Bureau to measure the pandemic's impact on the economy: the Small Business Pulse Survey (SBPS) and the weekly Business Formation Statistics. Policymakers and other federal agency officials, media outlets, and academia commended the Census Bureau's rapid response to their data needs during the largest economic crisis in recent American history. The Census Bureau capitalized on the successes that underlaid the high frequency data collection and near real time data dissemination engineered for the SBPS by creating the Business Trends and Outlook Survey (BTOS).

BTOS uses ongoing data collection to produce high frequency, timely, and granular information about current economic conditions and trends. BTOS is the only biweekly business tendency survey produced by the federal statistical system, providing unique and detailed data during times of economic or other emergencies. The BTOS initial target population is all nonfarm, single-location employer businesses with receipts of $1,000 or more in the United States, the District of Columbia, and Puerto Rico. The current sample consists of approximately 1.2 million single-unit businesses split into six panels. Data collection occurs every two weeks, and businesses in each panel are asked to report once every 12 weeks for one year. Current data from BTOS are representative of all single location employer businesses (excluding farms) in the U.S. economy and are published every two weeks. The data are available at the national and state levels, in addition to the 25 most-populous Metropolitan Statistical Areas (MSAs). North American Industry Classification System (NAICS) sector, subsector, and state by sector are also published, as are employment size class, and sector by employment size class data, according to the same timeline.

Data from BTOS are currently used to provide timely data to understand the economic conditions being experienced by single unit businesses; BTOS provides near real time data on key items such as revenue, paid employees, hours worked as well as inventories which is being added in for the second sample collection year; a new sample collection is conducted each year.

BTOS also provides high level information on the changing share of businesses facing difficulties stemming from supply chain issues, interest rate changes, or weather events. Previously, there had been few data sources available to policymakers, media outlets, and academia that delivered near real-time insights into economic trends and outlooks. BTOS data has been used by the Small Business Administration to evaluate the impact of regulatory changes. Use of the BTOS data (or additional requirements) is being determined by the Economic Development Agency (EDA) to understand the impact of natural disasters on U.S. businesses for the EDA to then guide the Federal Emergency Management Agency (FEMA) and/or policymakers in assisting in economic recovery support missions.

The BTOS consists of a set of core questions and supplemental content, when needed. The U.S. Census Bureau requests approval to add one question on Work from Home (WFH) schedules to the BTOS core content. Data collection for the BTOS core content will start August 12, 2024.

For 2024, the supplemental questionnaire will ask respondents about the business perspective on WFH. Using the same strategy as the 2023 BTOS AI core questions, the Census Bureau hopes to field one core WFH question to run during all cycles in addition to the supplement. The core WFH question will be a yes/no question intended to capture potential seasonality in WFH at the business level. Having this baseline will be important in understanding potential seasonal patterns picked up in the supplemental questions; preliminary findings from cognitive testing suggested that seasonality could be important in certain industries.

The Census Bureau plans to resubmit this package once cognitive testing concludes to gain approval for the WFH supplement which we plan to field beginning in November 2024. The WFH supplement is intended to capture nuances in WFH from business perspective including intensity of WFH and factors impacting its availability.

Frequency: Bi-weekly.

Respondent's Obligation: Voluntary.

Legal Authority: Title 13 U.S.C., Sections 131 and 182.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0607-1022.

Mary Reuling Lenaiyasa,
Paperwork Reduction Act Program Manager, Policy Coordination Office, U.S. Census Bureau.

[FR Doc. 2024-14733 Filed 7-3-24; 8:45 am]

BILLING CODE 3510-07-P